ENVIRONMENTAL PROTECTION AGENCY

[EPA-HQ-OECA-2014-0069; FRL-9931-66-OEI]

Information Collection Request Submitted to OMB for Review and Approval; Comment Request; NESHAP for Source Categories: Generic Maximum Achievable Control Technology Standards for Acetal Resin; Acrylic and Modacrylic Fiber; Hydrogen Fluoride and Polycarbonate Production (Renewal)

AGENCY: Environmental Protection Agency (EPA).

ACTION: Notice.

SUMMARY: The Environmental Protection Agency has submitted an information collection request (ICR), “NESHAP for Source Categories: Generic Maximum Achievable Control Technology Standards for Acetal Resin; Acrylic and Modacrylic Fiber; Hydrogen Fluoride and Polycarbonate Production (40 CFR part 63, subpart YY) (Renewal)” (EPA ICR No. 1871.09, OMB Control No. 2060-0420) to the Office of Management and Budget (OMB) for review and approval in accordance with the Paperwork Reduction Act (44 U.S.C. 3501 et seq.). This is a proposed extension of the ICR, which is currently approved through July 31, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 31, 2015.

ADDRESSES: Submit your comments, referencing Docket ID Number EPA-HQ-OECA-2014-0069, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: These regulations apply to new and existing facilities of the following four categories: Polycarbonates (PC) Production, Acrylic and Modacrylic Fibers (AMF) Production, Acetal Resins (AR) Production, and Hydrogen Fluoride (HF) Production. New facilities include those that commenced construction or reconstruction after the date of proposal. This information is being collected to assure compliance with 40 CFR part 63, subpart YY.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP. Any owner/operator subject to the provisions of this part shall maintain a file of these measurements, and retain the file for at least five years following the date of such measurements, maintenance reports, and records. All reports are sent to the delegated state or local authority. In the event that there is no such delegated authority, the reports are sent directly to the United States Environmental Protection Agency (EPA) regional office.

Form Numbers: None.

Respondents/affected entities: Respondents are existing facilities and new of the following four categories: Polycarbonates (PC) Production, Acrylic and Modacrylic Fibers (AMF) Production, Acetal Resins (AR) Production, and Hydrogen Fluoride (HF) Production. The PC industry consists of facilities that produce polycarbonates, a process that involves a polymerization reaction using either a solution or suspension process in either a batch or continuous mode. All production of polycarbonates in the United States is currently based on the polymerization reaction of bisphenols with phosgene in the presence of catalysts, solvents (mainly methylene chloride) and other additives. The AMF industry consists of facilities that produce acrylic and modacrylic fibers, which are manufactured synthetic fibers in which the fiber-forming substance is any long-chain synthetic polymer containing acrylonitrile units. The AR industry consists of facilities that produce homopolymers and/or copolymers of alternating oxymethylene units. Acetal resins are also known as polyoxymethylenes, polyacetals, and aldehyde resins. The HF industry consists of facilities that produce and recover hydrogen fluoride by reacting calcium fluoride with sulfuric acid. In this subpart, hydrogen fluoride production is not a process that produces gaseous hydrogen fluoride for direct reaction with hydrated aluminum to form aluminum fluoride (i.e., the hydrogen fluoride is not recovered as an intermediate or final product prior to reacting with the hydrated aluminum).

Respondent's obligation to respond: Mandatory (40 CFR part 63 subpart YY).

Estimated number of respondents: 7 (total).

Frequency of response: Initially, occasionally, and semiannually.

Total estimated burden: 3,240 hours (per year). Burden is defined at 5 CFR 1320.3(b).

Total estimated cost: $317,000 (per year), includes $127,000 annualized capital or operation & maintenance costs.

Changes in the Estimates: There is a decrease in the total estimated respondent burden compared with the ICR currently approved by OMB. The decrease in burden from the most recently approved ICR is primarily because the number of sources in the PC and AMF has decreased. However, there is a small increase in EPA burden and other changes to the burden calculation in this ICR. This ICR incorporates the requirements of the rule amendment to the PC and AMF subcategories. The rule amendment added requirements related to leak detection and repair (LDAR) and pressure relief devices (PRD) for subject PC and AMF facilities. We assume existing PC and AMF facilities will come into compliance with the new requirements during the three-year period covered under this ICR.

Courtney Kerwin,
Acting Director, Collection Strategies Division.

[FR Doc. 2015-18659 Filed 7-29-15; 8:45 am]

BILLING CODE 6560-50-P